DEPARTMENT OF EDUCATION

[Docket ID ED-2017-OPE-0080]

Privacy Act of 1974; System of Records

AGENCY: Office of Postsecondary Education, Department of Education.

ACTION: Notice of a modified system of records.

SUMMARY: In accordance with the Privacy Act of 1974, as amended (Privacy Act), the Department of Education (the Department) publishes this notice of a modified system of records entitled “Title VI International Research and Studies Program (IRS)” (18-12-04). IRS contains individually identifiable information provided by individuals to determine qualifications and eligibility for award benefits and to monitor achievements of award recipients. This information is used to demonstrate the effectiveness of the IRS.

DATES: Submit your comments on this modified system of records on or before April 27, 2018.

This modified system of records will become applicable upon publication in the Federal Register on March 28, 2018, unless the modified system of records notice needs to be changed as a result of public comment. Modified routine uses (3), (5), (6), (7), (9), and (10) and newly proposed routine uses (13) and (14) in the paragraph entitled “ROUTINE USES OF RECORDS MAINTAINED IN THE SYSTEM, INCLUDING CATEGORIES OF USERS AND PURPOSES OF SUCH USES” will become applicable on April 27, 2018, unless the modified system of records notice needs to be changed as a result of public comment. The Department will publish any significant changes resulting from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about this modified system of records, address them to: Senior Director, International Foreign Language Education (IFLE), Office of Postsecondary Education, U.S. Department of Education, 400 Maryland Ave. SW, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will supply an appropriate accommodation or auxiliary aid, such as a reader or print magnifier, to an individual with a disability who needs assistance to review the comments or other documents in the public rulemaking record for this notice. If you want to schedule an appointment for this type of accommodation or auxiliary aid, please contact the person listed under FOR FURTHER INFORMATION CONTACT.

FOR FURTHER INFORMATION CONTACT: Cheryl Gibbs, Division Director of Advanced Training and Research Division International Foreign Language Education (IFLE), Office of Postsecondary Education. Telephone: (202) 453-5690.

If you use a telecommunications device for the deaf (TDD) or a text telephone (TTY), you may call the Federal Relay Service (FRS) at 1-800-877-8339.

SUPPLEMENTARY INFORMATION:

Introduction: The Title VI International Research and Studies Program (18-12-04) system of records was last published in the Federal Register on June 4, 1999 (64 FR 30179). The Department proposes to update the system location, manager, and address to reflect the creation of the IFLE office that administers grant and fellowship programs such as IRS. The Department also proposes to update how the information is stored and safeguarded utilizing updated security hardware and software, including multiple firewalls, active intruder detection, and role-based access controls. The Department also proposes to update the record source categories and how the records are retrieved as well as to modify the section entitled “Policies and Practices for Retention and Disposal of Records” to reflect updated, current disposition instructions covering records in this system.

The Department proposes to update, but not to significantly change, routine use, (3) “Litigation and Alternative Dispute Resolution Disclosure,” (5) “Employee Grievance, Complaint, or Conduct Disclosure,” (6) “Labor Organization Disclosure,” (7) “Freedom of Information Act and Privacy Act Advice Disclosure,” (9) “Contract Disclosure,” and (10) “Research Disclosure.” The Department also proposes to add to this system of records notice two new routine uses. Routine use (14) entitled “Disclosure in the Course of Responding to a Breach of Data” and (15) entitled “Disclosure in Assisting another Agency in Responding to a Breach of Data.” These will allow the Department to disclose records in this system in order to assist in responding to a suspected or confirmed breach of this system's, the Department's, or another Federal agency's or entity's data.

The Department is also proposing to update the record access and notification procedures.

Accessible Format: Individuals with disabilities can obtain this document in an accessible format (e.g., Braille, large print, audiotape, or compact disc) on request to the person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of the Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: March 23, 2018.
Frank T. Brogan,
Principal Deputy Assistant Secretary and Delegated the duties of the Assistant Secretary, Office of Planning, Evaluation and Policy Development, Delegated the duties of the Assistant Secretary, Office of Postsecondary Education.

For the reasons discussed in the preamble, the Acting Assistant Secretary for the Office of Postsecondary Education, U.S. Department of Education (Department), publishes a notice of a modified system of records to read as follows:

SYSTEM NAME AND NUMBER

Title VI International Research and Studies Program (IRS) (18-12-04).

SECURITY CLASSIFICATION:

Unclassified.

SYSTEM LOCATION:

International Foreign Language Education (IFLE), Office of Postsecondary Education, U.S. Department of Education, 400 Maryland Ave. SW, Washington, DC 20202.

SYSTEM MANAGER(S):

Senior Director, IFLE, Office of Postsecondary Education, U.S. Department of Education, 400 Maryland Avenue SW, Washington, DC 20202.

AUTHORITY FOR MAINTENANCE OF THE SYSTEM:

The Higher Education Act of 1965, as amended, part A, title VI, section 605(a).

PURPOSE(S) OF THE SYSTEM:

The IRS awards discretionary grants to institutions, organizations, and individuals to conduct research, surveys, studies, and to develop instructional materials, including foreign language materials, to improve and strengthen instruction in modern foreign languages, study areas, and other international fields within the U.S. educational system. The information contained in this system of records is used for the following purposes: (1) To determine the qualifications and eligibility of the project directors and competitiveness of and need for the projects and to award benefits; (2) to monitor the progress of the projects, including their accomplishments; and (3) to demonstrate the program's effectiveness.

CATEGORIES OF INDIVIDUALS COVERED BY THE SYSTEM:

The system contains records on individual project directors who have applied to be or who have been selected to be recipients of IRS awards.

CATEGORIES OF RECORDS IN THE SYSTEM:

The IRS system consists of a variety of records relating to an individual's application(s) for, and participation in, the IRS. In addition to the individual's name, the system contains the participant's address, telephone number, educational institution, citizenship, Social Security number, institutional or individual Data Universal Numbering System (DUNS) number, educational and employment background, salary, research or instructional materials, project description, project costs, field reader comments, award documents, and final project reports.

RECORD SOURCE CATEGORIES:

Information is obtained from the individuals and institutions on approved application forms, from field readers, and from other individuals or entities from which data is obtained under routine uses set forth below.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. These disclosures may be made on a case-by-case basis, or, if the Department has complied with the computer matching requirements of the Privacy Act of 1974, as amended (Privacy Act), under a computer matching agreement.

(1) Field Reader Disclosure. The Department may disclose information to field readers (also referred to as peer reviewers) in order to determine the qualification and eligibility of the project director and the competitiveness of and need for the project, and to award benefits.

(2) Enforcement Disclosure. In the event that information in this system of records indicates, either on its face or in connection with other information, a violation or potential violation of any applicable statute, regulation, or order of a competent authority, the Department may disclose the relevant information to the appropriate agency, whether foreign, Federal, State, Tribal, or local, charged with the responsibility of investigating or prosecuting that violation or charged with enforcing or implementing the statute, Executive order, rule, regulation, or order issued pursuant thereto.

(3) Litigation and Alternative Dispute Resolution (ADR) Disclosure.

(a) Introduction. In the event that one of the parties listed in sub-paragraphs (i) through (v) is involved in judicial or administrative litigation or ADR, or has an interest in judicial or administrative litigation or ADR, the Department may disclose certain records to the parties described in paragraphs (b), (c), and (d) of this routine use under the conditions specified in those paragraphs:

(i) The Department or any of its components.

(ii) Any Department employee in his or her official capacity.

(iii) Any Department employee in his or her individual capacity if the U.S. Department of Justice (DOJ) has been requested to or has agreed to provide or arrange for representation for the employee.

(iv) Any Department employee in his or her individual capacity where the Department requests representation for or has agreed to represent the employee.

(v) The United States where the Department determines that the litigation is likely to affect the Department or any of its components.

(b) Disclosure to DOJ. If the Department determines that disclosure of certain records to DOJ is relevant and necessary to the litigation or ADR, the Department may disclose those records as a routine use to DOJ.

(c) Adjudicative Disclosure. If the Department determines that it is relevant and necessary to the litigation or ADR to disclose certain records to an adjudicative body before which the Department is authorized to appear, to a person, or to an entity designated by the Department or otherwise empowered to resolve or mediate disputes, the Department may disclose those records as a routine use to the adjudicative body, person, or entity.

(d) Disclosure to Parties, Counsels, Representatives, or Witnesses. If the Department determines that disclosure of certain records to a party, counsel, representative, or witness is relevant and necessary to the litigation or ADR, the Department may disclose those records as a routine use to the party, counsel, representative, or witness.

(4) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(5) Employee Grievance, Complaint, or Conduct Disclosure. If a record is relevant and necessary to an employee grievance, complaint, or disciplinary action involving a present or former employee of the Department, the Department may disclose a record from this system of records in the course of investigation, fact-finding, or adjudication, to any party to the grievance, complaint or action; to the party's counsel or representative; to a witness; or to a designated fact-finder, mediator, or other person designated to resolve issues or decide the matter.

(6) Labor Organization Disclosure. The Department may disclose records from this system of records to an arbitrator to resolve disputes under a negotiated grievance process or to officials of a labor organization recognized under 5 U.S.C. chapter 71 when relevant and necessary to their duties of exclusive representation.

(7) Freedom of Information Act (FOIA) and Privacy Act Advice Disclosure. The Department may disclose records to DOJ or Office of Management and Budget (OMB) if the Department concludes that disclosure is desirable or necessary in determining whether particular records are required to be disclosed under the FOIA or the Privacy Act.

(8) Disclosure to DOJ. The Department may disclose records to DOJ to the extent necessary for obtaining DOJ advice on any matter relevant to an audit, inspection, or other inquiry related to the programs covered by this system.

(9) Contract Disclosure. If the Department contracts with an entity for the purposes of performing any function that requires disclosure of records in this system to employees of the contractor, the Department may disclose the records to those employees. As part of such a contract, the Department shall require the contractor to agree to maintain safeguards to protect the security and confidentiality of the records in the system.

(10) Research Disclosure. The Department may disclose records to a researcher if an appropriate official of the Department determines that the individual or organization to which the disclosure would be made is qualified to carry out specific research related to functions or purposes of this system of records. The researcher must agree to maintain safeguards to protect the security and confidentiality with respect to the disclosed records.

(11) Congressional Member Disclosure. The Department may disclose the records of an individual to a member of Congress or the member's staff in response to an inquiry from the member made at the written request of that individual. The member's right to the information is no greater than the right of the individual who requested the inquiry.

(12) Disclosure to OMB for Credit Reform Act (CRA). The Department may disclose records to OMB as necessary to fulfill CRA requirements in accordance with 2 U.S.C. 661b.

(13) Disclosure in the Course of Responding to a Breach of Data. The Department may disclose records to appropriate agencies, entities, and persons when: (1) The Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department's efforts to respond to the suspected or confirmed breach or to prevent, minimize, or remedy such harm.

(14) Disclosure in Assisting Another Agency in Responding to a Breach of Data. The Department may disclose records to another Federal agency or Federal entity, when the Department determines that information from this system of records is reasonably necessary to assist the recipient agency or entity in: (1) Responding to a suspected or confirmed breach or (2) preventing, minimizing, or remedying the risk of harm to individuals, the recipient agency or entity (including its information systems, programs, and operations), the Federal Government, or national security, resulting from a suspected or confirmed breach.

DISCLOSURE TO CONSUMER REPORTING AGENCIES:

Disclosures pursuant to 5 U.S.C. 522a(b)(12): The Department may disclose to a consumer reporting agency information regarding a claim by the Department which is determined to be valid and overdue as follows: (1) The name, address, and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined at 31 U.S.C. 3701(a)(3).

POLICIES AND PRACTICES FOR STORAGE OR RECORDS:

Records are maintained electronically in a computer database and on a web-based portal maintained by the Department.

POLICIES AND PRACTICES FOR RETRIEVAL OF RECORDS:

Records are retrieved by individual's grant number; however records are retrievable via all data elements in the system.

POLICIES AND PRACTICES FOR RETENTION AND DISPOSAL OF RECORDS:

Records are maintained and disposed of in accordance with the National Archives and Records Administration's General Records Schedule (GRS) 1.2 (Grant and Cooperative Agreement Records), Items 020 (DAA-GRS-2013-0008-0001) and 021 (DAA-GRS-2013-0008-0006). Records of successful applications shall be destroyed 10 years after final action is taken on the applicable file, but longer retention is authorized if required for business use. Records of unsuccessful applications shall be destroyed 3 years after final action is taken on the applicable file, but longer retention is authorized if required for business use.

ADMINISTRATIVE, TECHNICAL AND PHYSICAL SAFEGUARDS:

All physical access to the site where this system of records is maintained is controlled and monitored by security personnel who check each individual entering the building. The computer system offers a high degree of resistance to tampering and circumvention. This security system limits data access to Department and contract staff on a “need-to-know” basis, and controls individual users' ability to access and alter records within the system.

RECORD ACCESS PROCEDURES:

If you wish to request access to your records, you must contact the system manager at the address listed under SYSTEM MANAGER(S). You must provide necessary particulars, such as your full name, date of birth, Social Security number, the year of the award, the name of the grantee institution, major country in which you conducted your educational activity, and any other identifying information requested by the Department while processing the request, to distinguish between individuals with the same name. Your request must meet the requirements of regulations in 34 CFR 5b.5, including proof of identity.

CONTESTING RECORD PROCEDURES:

If you wish to contest the content of a record regarding you in the system of records, you must contact the system manager at the address listed under SYSTEM MANAGER(S). Your request must meet the requirements of the regulations in 34 CFR 5b.7.

NOTIFICATION PROCEDURES:

If you wish to inquire whether a record exists regarding you in this system, you must contact the system manager at the address listed under SYSTEM MANAGER(S). You must provide necessary particulars, such as your name, date of birth, Social Security number, the year of the award, the name of the grantee institution, major country in which you conducted your educational activity, and any other identifying information requested by the Department while processing the request, to distinguish between individuals with the same name. Your request must meet the requirements of the Department's Privacy Act regulations at 34 CFR 5b.5, including proof of identity.

EXEMPTIONS PROMULGATED FOR THE SYSTEM:

None.

HISTORY:

The System of Records entitled “Title VI International Research and Studies Program (IRS)” (18-12-04) was last published in the Federal Register on June 4, 1999 (64 FR 30179).

[FR Doc. 2018-06280 Filed 3-27-18; 8:45 am]

BILLING CODE 4000-01-P